DEPARTMENT OF TRANSPORTATION

Federal Railroad Administration

[Docket Number FRA-2007-28700]

Petition for Modification of Waiver of Compliance

Under part 211 of title 49 Code of Federal Regulations (CFR), this document provides the public notice that on December 12, 2022, Kansas City Southern Railway Company (now known as CPKC),¹ on behalf of the Kansas City Southern Railway Company and Kansas City Southern de Mexico, petitioned the Federal Railroad Administration (FRA) for a modification of an existing waiver of compliance in Docket Number FRA-2007-28700. That waiver provides KCSR limited, conditional relief from certain provisions of the Federal railroad safety regulations contained at 49 CFR parts 215 (Railroad Freight Car Safety Standards) and 232 (Brake System Safety Standards for Freight and Other Non-Passenger Trains and Equipment; End-of-Train Devices). Additionally, CPKC requested certification under section 416 of the Rail Safety Improvement Act of 2008 (RSIA), that brake inspections conducted in Mexico meet FRA requirements. FRA notes that CPKC's request under RSIA Section 416 will be handled separately from its waiver modification request and accordingly this notice only addresses CPKC's request to modify the existing waiver in Docket Number FRA-2007-28700.

¹ On April 14, 2023, Kansas City Southern (KCS) merged with Canadian Pacific Railway forming CPKC. Accordingly, this notice refers to KCS as CPKC.

Specifically, in its petition CPKC requests a modification of the existing relief in Docket Number FRA-2007-28700 involving 49 CFR 232.205, Class I brake test-initial terminal inspection, and certain provisions of 49 CFR part 215, regarding freight cars received in interchange from KCSM at the U.S./Mexico border crossing and international bridge in Laredo, Texas. CPKC requests that FRA permit the inspections and brake tests currently required to be conducted at the point of interchange between CPKC and KCSM and at CPKC's Laredo Yard in Texas to be conducted in KCSM's Sanchez Yard in Mexico.

In support of its petition, CPKC states that the existing waiver has contributed to border security and that no incidents have been attributed to the relief in the past fourteen years. Additionally, CPKC proposes to implement new technology, Duo Technologies rip® Railcar Inspection (DTRI) that will (a) allow FRA to confirm remotely at the time a train arrives at the international bridge that the train has passed the Class I or Class III brake test in Sanchez Yard, and (b) allow CPKC qualified mechanical inspectors to use the DTRI data to confirm the “mechanical soundness” of any train interchanged from KCSM to CPKC. CPKC also explains that “[a]voiding stopping trains on the Bridge will also reduce the incidence of vandalism to brake systems that occurs when trains stop on the Bridge waiting to cross into the U.S.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by August 7, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2023-12189 Filed 6-6-23; 8:45 am]

BILLING CODE 4910-06-P